DEPARTMENT OF LABOR

Employment and Training Administration

[TA-W-62,330]

Gerdau Ameristeel, Perth Amboy, NJ; Notice of Termination of Investigation

Pursuant to Section 221 of the Trade Act of 1974, as amended, an investigation was initiated on October 19, 2007 in response to a worker petition filed by a company official on behalf of workers of Gerdau Ameristeel, Perth Amboy, New Jersey.

The petitioner has requested that the petition be withdrawn. Consequently, the investigation has been terminated.

Signed at Washington, DC, this 5th day of December, 2007.
Linda G. Poole,
Certifying Officer, Division of Trade Adjustment Assistance.

[FR Doc. E7-24020 Filed 12-11-07; 8:45 am]

BILLING CODE 4510-FN-P